DEPARTMENT OF TRANSPORTATION

Federal Aviation Administration

14 CFR Part 39

[Docket No. 2002-NE-22-AD; Amendment 39-13369; AD 2003-23-05-AD]

RIN 2120-AA64

Airworthiness Directives; Titeflex Corporation

AGENCY: Federal Aviation Administration (FAA), DOT.

ACTION: Final rule.

SUMMARY: The FAA is adopting a new airworthiness directive (AD) for certain Titeflex Corporation hoses installed on Boeing 737-300, -400, -500, -600, -700, -700C, -800, -900, 747-400, 757-200, -300, 767-200, -300, and -300F airplanes. This AD requires, within 24 months after the effective date of the AD, inspection of certain Titeflex Corporation hoses for proper date and paint code, replacement if necessary, and inspection for proper heat treatment of aluminum B-nuts, if necessary. This AD is prompted by certain Titeflex Corporation hoses discovered with incorrect heat treatment of B-nuts. We are issuing this AD to prevent fire extinguishing system and fuel system hose failure due to improperly heat treated aluminum B-nuts.

DATES: This AD becomes effective December 24, 2003. The Director of the Federal Register approved the incorporation by reference of certain publications listed in the regulations as of December 24, 2003.

ADDRESSES: You can get the service information identified in this AD from Boeing Commercial Airplane Group, PO Box 3703, Seattle, Washington 98124-2207; telephone (206) 544-5000.

You may examine the AD docket, by appointment, at the FAA, New England Region, Office of the Regional Counsel, 12 New England Executive Park, Burlington, MA. You may examine the service information, by appointment, at the FAA, New England Region, Office of the Regional Counsel, 12 New England Executive Park, Burlington, MA; or at the Office of the Federal Register, 800 North Capitol Street, NW., suite 700, Washington, DC.

FOR FURTHER INFORMATION CONTACT: Terry Fahr, Aerospace Engineer, Boston Aircraft Certification Office, FAA, Engine and Propeller Directorate, 12 New England Executive Park, Burlington, MA 01803-5299; telephone (781) 238-7155; fax (781) 238-7199.

SUPPLEMENTARY INFORMATION: The FAA proposed to amend 14 CFR Part 39 with a proposed airworthiness directive (AD). The proposed AD applies to certain Titeflex Corporation hoses installed on Boeing 737-300, -400, -500, -600, -700, -700C, -800, -900, 747-400, 757-200, -300, 767-200, -300, and -300F airplanes. We published the proposed AD in the Federal Register on March 13, 2003 (68 FR 11999). That action proposed to require within 24 months after the effective date of the AD, inspection of hoses for proper date and paint code, replacement if necessary, and inspection for proper heat treatment of aluminum B-nuts, if necessary.

Comments

We provided the public the opportunity to participate in the development of this AD. We have considered the comments received.

List Only Specific Aircraft

One commenter requests that only specific aircraft be listed in the applicability, and requests that we eliminate the statement “used on, but not limited to” from the applicability statement.

The FAA does not agree. Since the hoses can be used on many airplanes, the FAA uses the statement “used on, but not limited to” to include any operator who may have installed a hose on an airplane other than the ones called out in the service bulletins.

Entire Fleet's Effectivity

One commenter requests that the AD include the entire fleet's effectivity, because hoses may have been exchanged between aircraft.

The FAA agrees that hoses may have been exchanged between aircraft. However, as detailed above, no change to the AD is needed because the statement “installed on, but not limited to” already includes the entire fleet.

Ensure Adequacy of Service Bulletins

One commenter notes that the service bulletins should contain adequate information to do the inspection requirements, and that an adequate number of spare hoses should be made available.

The FAA agrees. The alert service bulletins contain adequate information to do the inspection requirements, and the FAA has been advised by Titeflex Corporation that an adequate supply of spare hoses is available.

Correct a Reference to Service Bulletins

One commenter requests that the reference to service bulletins listed in Table 1, be removed from the compliance paragraph preceding Table 1 because those service bulletins are not referenced in Table 1.

The FAA does not agree. The compliance paragraph mandates the inspection of the manufacture date code on all hoses listed in Table 1 of this AD, using the Accomplishment Instructions of the applicable Boeing alert service bulletins (ASBs) contained in Table 1 of this AD. Table 1 lists six different Alert Service Bulletins. Therefore, no change will be made to the AD.

Allow Use of Aircraft Records For AD Compliance

One commenter requests that the use of aircraft records be permitted as an alternate means of compliance (AMOC) with the inspections requirements of this AD.

The FAA agrees. The operator can request an AMOC and the FAA will review the operator's records to determine AMOC acceptability.

New Revision to Service Bulletin

The proposed AD incorporated by reference Boeing ASB 737-26A1109, Revision 1, dated November 7, 2002. The final rule has replaced that ASB with Boeing ASB 737-26A1109, Revision 2, dated May 8, 2003.

Conclusion

We have carefully reviewed the available data, including the comments received, and determined that air safety and the public interest require adopting the AD with the changes described previously. We have determined that these changes will neither increase the economic burden on any operator nor increase the scope of the AD.

Changes to 14 CFR Part 39—Effect on the AD

On July 10, 2002, the FAA published a new version of 14 CFR part 39 (67 FR 47997, July 22, 2002), which governs the FAA's AD system. That regulation now includes material that relates to altered products, special flight permits, and alternative methods of compliance. The material previously was included in each individual AD. Since the material is included in 14 CFR part 39, we will not include it in future AD actions.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2002-NE-22-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2003-23-05 Titeflex Corporation: Amendment 39-13369. Docket No. 2002-NE-22-AD.

Effective Date

(a) This AD becomes effective December 24, 2003.

Affected ADs

(b) None.

Applicability

(c) This AD applies to certain Titeflex Corporation hoses that are identified by Boeing part number (P/N), or for certain hoses, by Titeflex parts manufacturer approval (PMA) P/N in this AD. These hoses are used on, but not limited to, Boeing 737-300, -400, -500, -600, -700, -700C, -800, and -900; 757-200 and -300; 767-200, -300, and -300F; and 747-400 airplanes.

Unsafe Condition

(d) This AD is prompted by certain Titeflex Corporation hoses discovered with incorrect heat treatment of B-nuts. The actions specified in this AD are intended to prevent fire extinguishing system and fuel system hose failure due to improperly heat treated aluminum B-nuts.

Compliance

(e) Compliance with this AD is required as indicated, unless already done.

(f) Within 24 months after the effective date of this AD, inspect the manufacture date code on all hoses listed in Table 1 of this AD. Use the Accomplishment Instructions of the applicable Boeing alert service bulletins (ASB) contained in the following Table 1.

Table 1.—Applicable Hose P/Ns
Airplane model | Boeing hose P/N | Titeflex PMA P/N | Used for | Applicable alert service bulletin
(1) 737-300, -400, and -500 airplanes | S312N512-5 S312N512-6 BACH5R0110YP BACH5S0110XN | 113701-5 113701-6 | Engine and cargo compartment fire extinguishing bottles | 737-26A1108, Revision 1, dated June 27, 2002.
(2) 737-600, -700,-700C, -800, -900 airplanes | S316A001-1 S316A001-2 S312N512-15 S312N512-17 S312N512-18 BACH5R0110YP BACH5S0110XN | 115398-1 115398-2 113701-15 113701-17 113701-18 | Engine, auxiliary power unit (APU), and cargo compartment and fire extinguishing bottles, and wing-to-strut fuel hoses | 737-26A1109, Revision 12, dated May 8, 2003.
(3) 747-400 airplanes | BACH5R0080YY BACH5R0140YU BACH5S0140XT BACH5R0186YY BACH5R0186XX BACH5S0080XX BACH5S0080YY BACH5S0110XN |  | Forward cargo and main deck cargo compartment fire extinguishing bottles. | 747-26A2269, Revision 1, dated June 6, 2002.
(4) 757-200 airplanes | S312N512-1 S312N512-2 S312N512-3 S312N512-4 BACH5R0110YP BACH5S0110XN | 113701-1 113701-2 113701-3 113701-4 | Engine, APU, and cargo compartment fire extinguishing bottles | 757-26A0043, Revision 1, dated November 14, 2002.
(5) 757-300 airplanes | S312N512-1 S312N512-2 S312N512-3 S312N512-4 BACH5R0110YP BACH5S0074XN | 113701-1 113701-2 113701-3 113701-4 | Engine and cargo compartment fire extinguishing bottles | 757-26A0044, Revision 1, dated November 14, 2002. | (6) 767-200, -300, and -300F airplanes | BACH5R0085YU BACH5R0140YU BACH5S0077XT BACH5S0140XT BACH5S0184XX BACH5R0127YY |  | Cargo compartment fire extinguishing bottles | 767-26A0121, dated December 19, 2001.

(g) If the hose manufacture date code is before 11/99 or after 1/01, or if the manufacture date is 11/99 through 1/01 and there is a permanent white dot on the ID band, no further action is required for that hose.

(h) If the hose manufacture date code is 11/99 through 1/01 inclusive and there is no permanent white dot on the ID band, replace the hose with a serviceable hose or perform an indirect conductive inspection/test for proper heat treat. Use the accomplishment instructions of the applicable ASB listed in Table 1 of this AD.

(i) Replace the hose with a serviceable hose if any B-nut is improperly heat treated.

Credit For Previous Inspections

(j) Previous inspections performed using ASB 737-26A1108, dated November 15, 2001, ASB 737-26A1109, dated November 15, 2001, ASB 737-26A1109, Revision 1, dated November 7, 2002, ASB 747-26A2269, dated November 1, 2001, ASB 757-26A0043, dated November 15, 2001, and ASB 757-26A0044, dated November 15, 2001, comply with the inspection requirements of this AD.

Alternative Methods of Compliance

(k) The Manager, Boston Aircraft Certification Office, has the authority to approve alternative methods of compliance for this AD if requested using the procedures found in 14 CFR 39.19.

Material Incorporated by Reference

(l) The Director of the Federal Register approved the incorporation by reference of the documents listed in the following Table 2 in accordance with 5 U.S.C. 552(a) and 1 CFR part 51. You can get a copy from Boeing Commercial Airplane Group, PO Box 3707, Seattle, Washington 98124-2207. You can review copies at the FAA, New England Region, Office of the Regional Counsel, 12 New England Executive Park, Burlington, MA; or at the Office of the Federal Register, 800 North Capitol Street, NW, suite 700, Washington, DC.

Table 2.—Incorporation by Reference
Alert service bulletin | Page number(s) | Revision | Date
737-26A1108 | ALL | 1 | June 27, 2002.
Total Pages: 48
737-26A1109 | ALL | 2 | May 8, 2003.
Total Pages: 68
747-26A2269 | ALL | 1 | June 6, 2002.
Total Pages: 36
757-26A0043 | ALL | 1 | November 14, 2002.
Total Pages: 40
757-26A0044 | ALL | 1 | November 14, 2002.
Total Pages: 34
767-26A0121 | ALL | Original | December 19, 2001.
Total Pages: 20

Related Information

(m) None.

Issued in Burlington, Massachusetts, on November 10, 2003.
Francis A. Favara,
Acting Manager, Engine and Propeller Directorate, Aircraft Certification Service.

[FR Doc. 03-28730 Filed 11-18-03; 8:45 am]

BILLING CODE 4910-13-P